DEPARTMENT OF HEALTH AND HUMAN SERVICES

Centers for Disease Control and Prevention

Disease, Disability, and Injury Prevention and Control Special Emphasis Panel (SEP): Initial Review

The meeting announced below concerns Research Grants for Preventing Violence and Violence Related Injury, Funding Opportunity Announcement CE14-006, initial review.

SUMMARY: This document corrects a notice that was published in the Federal Register on April 29, 2014 (79 FR 23979). The time, date, and place should read as follows:

Time and Date: 10:30 a.m.-5:30 p.m., June 5-6, 2014 (Closed).

Place: CDC, 4770 Buford Highway NE., Conference Rooms 9A and 5A, Atlanta, Georgia 30341.

FOR FURTHER INFORMATION CONTACT: Donald Blackman, Ph.D., Scientific Review Officer, CDC, 4770 Buford Highway NE., Mailstop F63, Atlanta, Georgia 30341, Telephone: (770) 488-0641, DBlackman@cdc.gov.

The Director, Management Analysis and Services Office, has been delegated the authority to sign Federal Register notices pertaining to announcements of meetings and other committee management activities, for both the Centers for Disease Control and Prevention and the Agency for Toxic Substances and Disease Registry.

Gary J. Johnson,
Acting Director, Management Analysis and Services Office, Centers for Disease Control and Prevention.

[FR Doc. 2014-11356 Filed 5-15-14; 8:45 am]

BILLING CODE 4163-18-P